DEPARTMENT OF TRANSPORTATION

National Highway Traffic Safety Administration

Reports, Forms, and Recordkeeping Requirements Agency Information Collection Activity Under OMB Review

AGENCY: National Highway Traffic Safety Administration (NHTSA), U.S. Department of Transportation (DOT).

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on May 6, 2010 (75 FR 25033-25034).

DATES: Comments must be submitted on or before September 30, 2010.

ADDRESSES: Send comments, within 30 days, to the Office of Information and Regulatory Affairs, Office of Management and Budget, 725-17th Street, NW., Washington, DC 20503, Attention NHTSA Desk Officer.

FOR FURTHER INFORMATION CONTACT: Maria Vegega, PhD Chief, Behavioral Research Division, Office of Behavioral Safety Research (NTI-131), National Highway Traffic Safety Administration, 1200 New Jersey Avenue, SE., W44-302, Washington, DC 20590. Dr. Vegega's phone number is 202-366-2668 and her e-mail address is Maria.Vegega@dot.gov.

SUPPLEMENTARY INFORMATION: Title: Focus Group Review of Advanced Alcohol Detection Technology.

Type of Request: New information collection requirement.

Abstract: In 2008, 11,773 people were killed in alcohol-impaired-driving crashes. Drivers are considered to be alcohol-impaired when their blood alcohol concentration (BAC) is .08 grams per deciliter (g/dL) or higher. These alcohol-impaired-driving fatalities accounted for 32 percent of the total motor vehicle traffic fatalities in the United States.

In a continuing effort to reduce the adverse consequences of alcohol-impaired driving, NHTSA in conjunction with the Automotive Coalition for Traffic Safety (ACTS) is undertaking research and development to explore the feasibility of, and public policy challenges associated with, use of in-vehicle alcohol detection technology. The agency believes that use of vehicle-based, alcohol detection technologies could help to significantly reduce the number of alcohol-impaired driving crashes, deaths and injuries by preventing drivers from driving while their blood alcohol concentration (BAC) is at or above the legal limit. In 2008, ACTS and NHTSA entered into a 5-Year Cooperative Agreement to “explore the feasibility, the potential benefits of, and the public policy challenges associated with a more widespread use of unobtrusive technology to prevent drunk driving”. The goal of this research effort, the Driver Alcohol Detection System for Safety (DADSS) project, is to develop and test prototypes that may be considered for vehicle integration thereafter.

As technology development progresses and decisions are being made about how to integrate such technology into vehicles, NHTSA needs a better understanding of public preferences with respect to in-vehicle alcohol detection devices. Optimization of technology and public acceptance of it once deployed will depend on the extent to which public attitudes are taken into account during the development process. Recognizing the need to obtain input from drivers early in the development process, NHTSA proposes to conduct a total of 24 focus groups in two stages. The first set of focus groups (12 focus groups) will obtain information from licensed drivers on public perceptions and attitudes concerning in-vehicle alcohol detection technology designed to prevent alcohol-impaired driving. Information from this phase of the project will be used by NHTSA and the DADSS research team to provide input to decision making regarding vehicle integration with respect to the technology under investigation. A second set of focus groups (12 focus groups) will gauge driver reaction to technology prototypes, obtain input on alternative prototype features, and obtain guidance on strategies for introduction of the technology into the vehicle fleet. The information will also be used to identify potential barriers to acceptance of the technologies.

Affected Public: Drivers age 21 years and older will be recruited in four locations to participate in focus groups. They will be provided with a stipend to reimburse them for expenses and compensate them for their time in participating in the discussions. Participation by all respondents would be voluntary and anonymous. All focus groups will be conducted by a trained moderator.

Estimated Total Annual Burden: 288 hours (24 focus groups with eight participants in each, averaging 1.5 hours).

Comments are invited on the following:

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. 3506(c)(2)(A).

Jeff Michael,
Associate Administrator, Research and Program Development.

[FR Doc. 2010-21757 Filed 8-30-10; 8:45 am]

BILLING CODE 4910-59-P